DEPARTMENT OF EDUCATION

[Docket No.: ED-2016-ICCD-0140]

Agency Information Collection Activities; Submission to the Office of Management and Budget for Review and Approval; Comment Request; Teacher Verification Form for Title II Scholarship Recipients

AGENCY: Office of Postsecondary Education (OPE), Department of Education (ED).

ACTION: Notice

SUMMARY: In accordance with the Paperwork Reduction Act of 1995, ED is proposing a revision of an existing information collection.

DATES: Interested persons are invited to submit comments on or before April 10, 2017.

ADDRESSES: To access and review all the documents related to the information collection listed in this notice, please use http://www.regulations.gov by searching the Docket ID number ED-2016-ICCD-0140. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 224-84, Washington, DC 20202-4537.

FOR FURTHER INFORMATION CONTACT: For specific questions related to collection activities, please contact Karen Wilson, 202-453-6186.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Teacher Verification Form for Title II Scholarship Recipients.

OMB Control Number: 1840-0753.

Type of Review: A revision of an existing information collection.

Respondents/Affected Public: State, Local, and Tribal Governments; Individuals or Households.

Total Estimated Number of Annual Responses: 1,000.

Total Estimated Number of Annual Burden Hours: 1,000.

Abstract: In order to implement the requirements of the statute, confidential information on scholarship recipients will be collected. Specifically, the institution of higher education (IHE) will report to ED the name, address, Social Security Number, and date of birth for each recipient at the time a scholarship award is made. These data will be used to track students after the completion of their studies (or withdrawal from the program) to ascertain whether they are fulfilling the teaching requirement of their award.

Any data that is required and maintained by ED itself will be maintained in accordance with the Privacy Act of 1974, as amended. To assure that sensitive data about scholarship recipients are not compromised, all data—whether submitted electronically or as hard copy—will be maintained in a secure location. Access to these data will be limited only to staff who are directly responsible for working with the Teacher Quality Enhancement (TQE) Program and this information is only available onsite at the TQE office via desktop computer.

As noted in the Privacy Act of 1974 (5 U.S.C. 552a), the authority for collecting the requested information from and about TQE scholarship recipients is Title II, Section 204(e) of the Higher Education Act of 1965, as amended, and 31 U.S.C. Chapter 37. IHE students are advised that participation in the Teacher Quality Enhancement Grants scholarship program is voluntary and that giving the Department their Social Security Numbers (SSNs) is voluntary, but they must provide the requested information, including their SSNs, to participate. The information will be used to ensure that recipients of scholarships provided with funds under Title II of the Higher Education Act subsequently: (1) Complete a teacher education program and teach in a high-need school of a high-need local educational agency for a period of time equivalent to the period for which the recipient received scholarship assistance; or (2) repay the amount of the scholarship. The information in students' records may be disclosed to third parties as authorized under routine uses in the appropriate systems of records, either on a case-by-case basis, or, if the Department has complied with the computer matching requirements of the Privacy Act, under a computer matching agreement.

Dated: March 6, 2017.
Kate Mullan,
Acting Director, Information Collection Clearance Division, Office of the Chief Privacy Officer, Office of Management.

[FR Doc. 2017-04608 Filed 3-8-17; 8:45 am]

BILLING CODE 4000-01-P